DEPARTMENT OF ENERGY

[OE Docket No. EA-403]

Application To Export Electric Energy; Frontera Marketing, LLC

AGENCY: Office of Electricity Delivery and Energy Reliability, DOE.

ACTION: Notice of application.

SUMMARY: Frontera Marketing, LLC (Applicant) has applied for authority to transmit electric energy from the United States to Mexico pursuant to section 202(e) of the Federal Power Act.

DATES: Comments, protests, or motions to intervene must be submitted on or before November 26, 2014.

ADDRESSES: Comments, protests, motions to intervene, or requests for more information should be addressed to: Office of Electricity Delivery and Energy Reliability, Mail Code: OE-20, U.S. Department of Energy, 1000 Independence Avenue SW., Washington, DC 20585-0350. Because of delays in handling conventional mail, it is recommended that documents be transmitted by overnight mail, by electronic mail to Electricity.Exports@hq.doe.gov, or by facsimile to 202-586-8008.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On September 12, 2014, DOE received an application from the Applicant for authority to transmit electric energy from the United States to Mexico for ten years as a power marketer. The Applicant's request is to export electricity from the Frontera Station to customers in Mexico over the international transmission facilities authorized by Presidential Permit PP-206. Because the facilities authorized by PP-206 are not capable of transmitting third party supply, the Applicant also seeks authorization to transmit electricity on other international transmission facilities identified as open-access lines. The Applicant is requesting expedited treatment of this application and issuance of an Order within 60 days.

In its application, the Applicant states that it does not own or operate any electric generation or transmission facilities. In those instances where Applicant purchases power from entities other than Frontera Generation to be exported over facilities other than the facilities permitted by Presidential Permit PP-206, the electric energy would be surplus energy purchased from third parties pursuant to voluntary agreements.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments on the Applicant's application to export electric energy to Mexico should be clearly marked with OE Docket No. EA-403. An additional copy is to be provided directly to Bilal Khan, Frontera Marketing, LLC, c/o The Blackstone Group L.P., 345 Park Avenue, New York, NY 10154 and to Brooksany Barrowes, Baker Botts L.L.P., 1299 Pennsylvania Avenue NW., Washington, DC 20004.

A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available by request to the addresses provided above or by accessing the program Web site at http://energy.gov/node/11845.

Issued in Washington, DC, on October 21, 2014.
Brian Mills,
Director, Permitting and Siting, Office of Electricity Delivery and Energy Reliability.

[FR Doc. 2014-25459 Filed 10-24-14; 8:45 am]

BILLING CODE 6450-01-P